COMMISSION ON CIVIL RIGHTS

Sunshine Act Notice

AGENCY: United States Commission on Civil Rights.

ACTION: Notice of meeting.

Date and Time: Friday, November 20, 2009; 9:30 a.m. EST.

Place: 624 9th St., NW., Room 540, Washington, DC 20425.

Meeting Agenda

This meeting is open to the public.

I. Approval of Agenda.

II. Program Planning.

• Approval of MEPA Briefing Report.

• Update on Status of 2010 Enforcement Report.

• National Conference Update.

• Approval of Concept Papers for FY 2010 Briefing Topics.

• Amendments to Title IX Briefing Report.

• Update on Status of Title IX Project.

III. Management & Operations.

• Motion Regarding Special Assistant GS Level.

• Motion to Permit Commissioners' Special Assistants to Join Commissioners' Line for Telephonic Meetings.

IV. State Advisory Committee Issues.

• Iowa SAC.

• Massachusetts SAC.

V. Approval of September 24, October 8, October 15 and October 30 Meeting Minutes.

VI. Staff Director's Report.

VII. Adjourn.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: November 9, 2009.
David Blackwood,
General Counsel.

[FR Doc. E9-27327 Filed 11-9-09; 4:15 pm]

BILLING CODE 6335-01-P